DEPARTMENT OF THE INTERIOR

National Park Service

[NPS-WASO-NRNHL-15641; PPWOCRADI0, PCU00RP14.R50000]

National Register of Historic Places; Notification of Pending Nominations and Related Actions

Nominations for the following properties being considered for listing or related actions in the National Register were received by the National Park Service before April 19, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by May 27, 2014. Before including your address, phone number, email address, or other personal identifying information in your comment, you should be aware that your entire comment—including your personal identifying information—may be made publicly available at any time. While you can ask us in your comment to withhold your personal identifying information from public review, we cannot guarantee that we will be able to do so.

Dated: April 22, 2014.
J. Paul Loether,
Chief, National Register of Historic Places/National Historic Landmarks Program.

CALIFORNIA

San Benito County

Bear Valley School, E. side of CA 146, 1 mi. N. of jct. with CA 25, Paicines, 14000267

FLORIDA

Palm Beach County

Marina Historic District, Bounded by E. Atlantic Ave., Marine Way, SE. 3rd & 7th Sts., Delray Beach, 14000268

GEORGIA

Bibb County

Shirley Hills Historic District (Boundary Increase and Additional Documentation), Roughly bounded by Boulevard Ave., Woodland Dr., Waveland Cir., Nottingham, Briarcliff & Upper River Rds., Macon, 14000269

MARYLAND

Caroline County

Nanticoke Lodge No. 172, A.F. and A.M., 112-116 N. Main St., Federalsburg, 14000270

MASSACHUSETTS

Suffolk County

Blake and Amory Building, 59 Temple Pl., Boston, 14000272

MISSISSIPPI

Hancock County

Waveland Elementary School, 335 Coleman Ave., Waveland, 14000273

Jackson County

Old Ocean Springs Historic District (Boundary Increase and Decrease, Additional Documentation), Roughly bounded by L & N RR., Calhoun St., 1st, Ocean, Magnolia & Ward Aves., Ocean Springs, 14000274

Lauderdale County

Meridian Senior High School and Junior College, 2320 32nd St., Meridian, 14000275

Lee County

Downtown Tupelo Historic District, Roughly bounded by Jefferson, Madison. N. Front, & Kansas City Southern RR., Tupelo, 14000276

Oktibbeha County

Starkville Colored Cemetery, N. side of University Dr., W. of N. Nash & E. of Hartness Sts., Starkville, 14000277

Warren County

Christian and Brough Building, (Vicksburg MPS) 923 Washington St., Vicksburg, 14000278

In the interest of preservation a 3 day comment period has been requested for the following resource:

MASSACHUSETTS

Plymouth County

Commonwealth Shoe and Leather Co., 7 Marble St., Whitman, 14000271

A request to remove has been received for the following resource:

OKLAHOMA

Pittsburg County

Southern Ice and Cold Storage Company, 338 E. Choctaw Ave., McAlester, 79002023

[FR Doc. 2014-10643 Filed 5-8-14; 8:45 am]

BILLING CODE 4312-51-P